DEPARTMENT OF HEALTH AND HUMAN SERVICES

Centers for Disease Control and Prevention

[60Day-04-04KD]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Seleda Perryman, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Tremolite Asbestos Registry—NEW—The Agency for Toxic Substances and Disease Registry (ATSDR) is mandated pursuant to the 1980 Comprehensive Environmental Response Compensation and Liability Act (CERCLA) and its 1986 Amendments, the Superfund Amendments and Re-authorization Act (SARA), to establish and maintain a national registry of persons who have been exposed to hazardous substances in the environment and a national registry of persons with illnesses or health problems resulting from such exposure. In 1988, ATSDR created the National Exposure Registry (NER) as a result of this legislation in an effort to provide scientific information about potential adverse health effects people develop as a result of low-level, long-term exposure to hazardous substances.

The Tremolite Asbestos Registry (TAR) is currently authorized as part of the National Exposure Registry (OMB #0923-0006, expiration 10/31/04). ATSDR is seeking a separate approval for the TAR activities. The purpose of the TAR will be to improve communication with people at risk for developing asbestos-related disease resulting from asbestos exposure in Libby, Montana, and to support research activities related to TAR registrants.

The TAR is currently composed of information about former vermiculite workers, the people that lived with them during their tenure as vermiculite workers (i.e., the workers' household contacts), and people who participated in or are eligible to participate in the ATSDR medical testing program in Libby, Montana. ATSDR will take a phased approach to creating the TAR. Phase I, which is currently nearing completion, involved identifying, locating, and contacting former workers and their household members. Phase II will combine the data from Phase I and the data collected during the medical testing program to create a single database. Phase III will involve re-contacting registrants to update their information. There is no cost to registrants.

Respondents | Number of respondents | Responses per respondent | Avg. burden per response (in hrs.) | Total burden hours
Baseline TAR questionnaire | 2,000 | 1 | 30/60 | 1,000
Follow-up questionnaire | 2,500 | 1 | 25/60 | 1,050
Total |  |  |  | 2,050

Dated: September 1, 2004.
Alvin Hall,
Director, Management Analysis and Services Office, Centers for Disease Control and Prevention.

[FR Doc. 04-20513 Filed 9-9-04; 8:45 am]

BILLING CODE 4163-18-P